DEPARTMENT OF THE INTERIOR

Fish and Wildlife Service

Receipt of Application of Endangered Species Recovery Permits

AGENCY: Fish and Wildlife Service, Interior.

ACTION: Notice of availability.

SUMMARY: We announce our receipt of an application to conduct certain activities pertaining to scientific research and enhancement of survival of endangered species.

DATES: Written comments on this request for a permit must be received June 30, 2003.

ADDRESSES: Written data or comments should be submitted to the Assistant Regional Director-Ecological Services, U.S. Fish and Wildlife Service, PO Box 25486, Denver Federal Center, Denver, Colorado 80225-0486; telephone 303-236-7400, facsimile 303-236-0027.

FOR FURTHER INFORMATION CONTACT: Documents and other information submitted with this application are available for review, subject to the requirements of the Privacy Act and Freedom of Information Act, by any party who submits a written request for a copy of such documents within 20 days of the date of publication of this notice to the address above; telephone 303-236-7400.

SUPPLEMENTARY INFORMATION: The following applicant has requested issuance of a scientific research and enhancement of survival permit to conduct certain activities with endangered species pursuant to section 10(a)(1)(A) of the Endangered Species Act of 1973, as amended (16 U.S.C. 1531 et seq.).

TE-070027

Applicant: Renae Held, Tern and Plover Conservation Partnership, University of Nebraska, Lincoln, Nebraska.

The applicant requests a permit to take Interior least terns (Sterna antillarum athalassos) and piping plovers (Charadrius melodus) in conjunction with recovery activities throughout the species' ranges for the purpose of enhancing their survival and recovery.

TE-071662

Applicant: Fred Lindzey, Laramie, Wyoming.

The applicant requests a permit to take Wyoming toads (Bufo baxteri) in conjunction with recovery activities throughout the species' range for the purposes of enhancing their survival and recovery.

Dated: April 22, 2003.
John A. Blankenship,
Regional Director, Denver, Colorado.

[FR Doc. 03-13382 Filed 5-28-03; 8:45 am]

BILLING CODE 4310-55-P